NUCLEAR REGULATORY COMMISSION

[NRC-2010-0282]

Revised Draft Safety Culture Policy Statement: Request for Comments

AGENCY: Nuclear Regulatory Commission (NRC).

ACTION: Issuance of revised Draft Safety Culture Policy Statement and notice of opportunity for public comment.

DATES: Comments are requested 30 days from the date of this Federal Register Notice. Comments received after this date will be considered if it is practical to do so, but the NRC is only able to assure consideration of comments received on or before this date. Please refer to the SUPPLEMENTARY INFORMATION section for additional information including specific questions for which the NRC is requesting comment.

ADDRESSES: You may submit comments by any one of the following methods. Please include Docket ID NRC-2010-0282 in the subject line of your comments. Comments submitted in writing or in electronic form will be posted on the NRC Web site and on the Federal rulemaking Web site www.Regulations.gov. Because your comments will not be edited to remove any identifying or contact information, the NRC cautions you against including any information in your submission that you do not want to be publicly disclosed. Additionally, the NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2010-0282. Address questions about NRC dockets to Carol Gallagher 301-492-3668; e-mail Carol.Gallagher@nrc.gov.

Mail comments to: Cindy K. Blady, Chief, Rules, Announcements, and Directives Branch (RADB), Division of Administrative Services, Office of Administration, Mail Stop: TWB-05-B01M, U.S. Nuclear Regulatory Commission, Washington, DC 20555-0001, or by fax to RADB at (301) 492-3446.

FOR FURTHER INFORMATION CONTACT: Maria E. Schwartz or Catherine Thompson at the U.S. Nuclear Regulatory Commission, Office of Enforcement, Mail Stop O-4 A15A, Washington, DC 20555-0001 or by e-mail or telephone to Maria.Schwartz@nrc.gov, (301) 415-1888, or Catherine.Thompson@nrc.gov, (301) 415-3409.

SUMMARY: On November 6, 2009, the NRC published a draft policy statement,” Safety Culture Policy Statement,” in the Federal Register (FRN) (74 FR 57525; NRC ADAMS Accession Number ML093030375).¹ The Statement of Policy (SOP) contained in the FRN focuses on the interface of nuclear safety and security in a positive safety culture, and highlights the Commission's expectation that all licensees and certificate holders ² establish and maintain a positive safety culture that protects public health and safety and the common defense and security when carrying out licensed activities. The FRN requested that interested persons provide comments within 90 days of its publication. On January 12, 2010, the comment period was extended to March 1, 2010 (75 FR 1656; ML100050288). As part of its outreach activities, the NRC held a Safety Culture Workshop in February 2010 that provided a venue for interested parties to provide comments on the draft safety culture policy statement. The additional goal of the workshop was for panelists representing a broad range of stakeholders to reach alignment on a common definition of safety culture and a high-level set of traits that describe areas important to a positive safety culture. The workshop panelists, with the assistance of the other workshop participants, developed both. Following the February workshop, the staff evaluated the public comments that were submitted in response to the November 2009 FRN. Additionally, the staff participated on panels and made presentations at various industry forums in order to provide information to stakeholders about the development of the safety culture policy statement and/or to obtain additional input and to ascertain whether the draft definition and traits developed at the workshop accurately reflect a broad range of stakeholders' views.

¹ The Commission may use a policy statement to address matters relating to areas that are within NRC jurisdiction and are of particular interest to the Commission in order to guide staff's activities and to express its expectations; however, policy statements, unlike regulations/rules are not binding upon, or enforceable against, NRC or Agreement State licensees and certificate holders.

² The reference in the November 2009 FRN to “licensee and certificate holder” included licensees, certificate holders, permit holders, authorization holders, holders of quality assurance program approvals, and applicants for a license, certificate, permit, authorization, or quality assurance program approval.

In its ongoing effort to continue this dialogue with stakeholders, the NRC is publishing this FRN containing the revised draft SOP for a 30-day public comment period. The revised draft SOP, including the revised definition and traits, is based on careful consideration of the Commission guidance in the October 2009 Staff Requirements Memorandum (SRM) for SECY-09-0075 (ML092920099), the NRC staff's evaluation of the public comments received on the November 2009 FRN, the revised definition and traits developed at the February 2010 workshop, and the outreach efforts the NRC staff has engaged in since February 2010.

The information contained in this FRN will be used to focus discussions at a public meeting the NRC is holding on September 28, 2010, at its Las Vegas, Nevada, hearing facility. Both this FRN and the September meeting are intended to provide additional opportunities for stakeholders to provide comments on the revised draft SOP, including the revised draft definition and traits.

I. Background

Previous Policy Statements

While the NRC has increased its attention on the importance of a positive safety culture, the agency has long recognized the importance of a work environment with a safety-first focus. In 1989, in response to an incident involving operators sleeping in the control room, the NRC issued a policy statement on the conduct of operations which describes the NRC's expectation that licensees place appropriate emphasis on safety in the operations of nuclear power plants. The “Policy Statement on the Conduct of Nuclear Power Plant Operations” (54 FR 3424; January 24, 1989) states the Commission's expectations of utility management and licensed operators with respect to the conduct of operations, noting that it applies to all individuals engaged in any activity which has a bearing on the safety of nuclear power plants. The Commission issued the policy statement to help foster the development and maintenance of a positive safety culture at these facilities.

In 1996, the Commission published a policy statement, “Freedom of Employees in the Nuclear Industry to Raise Safety Concerns Without Fear of Retaliation” (61 FR 24336; May 14, 1996), to set forth its expectations that licensees and other employers subject to NRC authority establish and maintain safety-conscious work environments in which employees feel free to raise safety concerns, both to their management and to the NRC, without fear of retaliation. This policy statement applies to the regulated activities of all NRC licensees and their contractors and subcontractors. A safety conscious work environment is an important attribute of a positive safety culture and is one of the safety culture characteristics in the initial draft safety culture policy statement. It is also one of the revised traits captured by the February 2010 workshop participants as an “Environment for Raising Concerns.”

Events Underscoring the Importance of a Positive Safety Culture

The importance of a positive safety culture has been demonstrated by a number of significant, high-visibility events world-wide involving civilian uses of radioactive materials that have occurred in the 20-year period since the Commission published its 1989 policy statement. These events are not confined to a particular type of licensee or certificate holder as they occurred at nuclear power plants and fuel cycle facilities and during medical and industrial activities involving regulated materials. Because of their significance to public health and safety, the Commission has required the regulated entity involved to determine the underlying root causes of the problem and, in some instances, to commit to having a third-party assessment of its safety culture in order to establish appropriate corrective actions. These assessments have revealed that weaknesses in the regulated entities' safety culture were an underlying root cause of the problem or increased the severity of the problem. These root causes included, for example, inadequate management oversight of process changes, perceived production pressures, lack of a questioning attitude, and poor communications.

One such incident indicated the need for additional NRC efforts to evaluate whether it should increase its attention to reactor licensees' safety cultures. During a planned outage, a nuclear power plant licensee discovered a cavity caused by boric acid corrosion in the top of the reactor pressure vessel. In response to this serious deterioration, the NRC required the licensee to determine the underlying root causes of the problem. The licensee's evaluation identified that the root causes for the failure to take appropriate corrective actions included an inadequate safety culture and an emphasis on production over safety. NRC lessons learned from this incident indicated the need for additional NRC efforts to evaluate nuclear power plant licensees' safety cultures. In SRM-SECY-04-0111 (ML042430661), dated August 30, 2004, the Commission approved the staff's plan to enhance the Reactor Oversight Process (ROP) treatment of cross-cutting issues to more fully address safety culture. As part of this effort, the staff made important changes to the ROP to address Commission direction, including: (1) Enhancements to problem identification and resolution initiatives; (2) inspector training on safety culture; (3) establishment of processes for revising the ROP while involving stakeholders; (4) evaluation of safety culture at plants in the Degraded Cornerstone Column of the ROP Action Matrix; and (5) the treatment of cross-cutting issues to more fully address safety culture. Commission paper SECY-06-0122, dated May 24, 2006, (ML061320282) describes the NRC's safety culture activities at that time and the outcomes of those activities. On July 31, 2006, the agency issued Regulatory Issue Summary 2006-13, “Information on the Changes Made to the Reactor Oversight Process to More Fully Address Safety Culture,” (ML061880341) to provide information to nuclear power reactor licensees on the revised ROP.

Increased Focus on Security Issues

Following the terrorist attacks of September 11, 2001, the Commission increased its focus on the security of regulated facilities whose operations can have an impact on public health and safety. The Commission issued orders enhancing security at these facilities. During the early years of implementation of these security enhancements, several violations of the Commission's security requirements were identified, in which the licensee failed to cultivate an effective safety culture in its security program. The most visible of these involved a culture of complacency involving security officers sleeping while on shift at a nuclear power plant. Most of these violations involved inadequate management oversight of security, lack of a questioning attitude within the security organization, inability to raise concerns about security issues, and inadequacy of training for security personnel. These issues prompted the Commission in SECY-09-0075 to direct the staff to evaluate “[w]hether publishing NRC's expectations for safety culture and for security culture is best accomplished in one safety/security culture statement or in two separate statements, one each for safety and security, while still considering the safety and security interfaces.” Based on the staff's review and stakeholder feedback, the staff concluded that the Commission's expectations for safety culture should be published in one policy statement entitled, “A Safety Culture Policy Statement,” but should emphasize that safety and security be treated in a balanced, commensurate with the significance, manner, within the overarching safety culture. Thus, while the term “security” is not included in the revised draft definition of safety culture, as the preamble to the traits points out, the traits of an effective safety culture should be balanced commensurate with their significance in ensuring that the security program is effectively implemented.

Additionally, one of the insights gained from the increased emphasis on security is the importance of incorporating security considerations into a safety culture and effectively managing the safety and security interface. An effective safety and security interface integrates safety and security activities so as not to diminish or adversely affect either. Capturing both safety and security activities under an overarching safety culture policy statement is important because, while many safety and security activities complement each other, there may be instances in which safety and security interests create competing goals. Mechanisms should be established to identify and resolve these differences.

II. Development of the Current Statement of Policy

Commission Direction

In February 2008, the Commission issued SRM-COMGBJ-08-0001 (ML080560476) directing the NRC staff to expand the Commission's policy on safety culture to address the unique aspects of security and to ensure the resulting policy is applicable to all licensees and certificate holders. The Commission posed several additional questions for the staff to answer including (1) whether safety culture as applied to reactors needs to be strengthened; (2) how to increase attention to safety culture in the materials area; (3) how stakeholder involvement can most effectively be used to address safety culture for all NRC and Agreement State licensees and certificate holders, including any unique aspects of security; and (4) whether publishing NRC's expectations for safety culture and for security culture is best accomplished in one safety/security culture statement or in two separate statements while still considering the safety and security interfaces.

To address the Commission's direction, NRC staff reviewed domestic and international safety culture related documents, considered NRC lessons learned, and obtained wide ranging stakeholder input on questions related to the issues in the SRM. In February 2009, the NRC held a public workshop on the “Development of a Policy Statement(s) on Safety and Security Culture” in which a broad range of stakeholders participated, including a representative from the Agreement States (Meeting Summary: ML090930572). The 2009 workshop developed a draft definition and characteristics ³ of a positive safety culture. Additionally, mindful of the increased attention to the important role of security, the staff also sought input from the workshop participants on whether there should be a single safety culture policy statement or two policy statements addressing safety and security independently while considering the interface of both. The staff also sought input on the additional questions the Commission posed to the staff in SRM-COMGBJ-08-0001.

³ At the February 2010 workshop, the panelists referred to the characteristics (NRC term) or principles (INPO term) as traits. The term “traits” is used in the revised draft SOP and throughout this FRN and describes areas important to a positive safety culture.

The staff provided its recommendations to the Commission in May 2009 in Commission paper SECY-09-0075, “Safety Culture Policy Statement” (ML091130068). Based on its review and stakeholder feedback, the staff (1) concluded that the NRC's oversight of safety culture as applied to reactors has been strengthened, is effective, and continues to be refined in accordance with the existing reactor oversight process (ROP) self-assessment process; (2) described actions taken and planned for increasing attention to safety culture in the materials area; (3) described actions taken and planned for most effectively utilizing stakeholder involvement to address safety culture, including any unique aspects of security, for all NRC and Agreement State licensees and certificate holders; and (4) developed one draft safety culture policy statement that acknowledges the equal importance of safety and security within the overarching safety culture.

In SRM-SECY-09-0075 (ML092920099), the Commission directed the staff to: (1) Continue to engage a broad range of stakeholders, including the Agreement States and other organizations with an interest in nuclear safety, to ensure the final policy statement presented to the Commission considers a broad spectrum of views and provides the necessary foundation for safety culture applicable to the entire nuclear industry; (2) make the necessary adjustments to encompass security within the statement; (3) seek opportunities to comport NRC terminology, where possible, with that of existing standards and references maintained by those that the NRC regulates; and (4) consider incorporating suppliers and vendors of safety related components in the safety culture policy statement.

February 2010 Workshop

The February 2010 workshop was part of the staff's efforts to further engage all NRC-regulated entities as well as the Agreement States, the Indian Tribes, and organizations and individuals interested in nuclear safety. The goals of the February workshop were to (1) provide an additional opportunity for comments on the November 2009 FRN and (2) develop a common definition of safety culture and a high-level set of traits describing areas important to a positive safety culture. The workshop participants represented a wide range of stakeholders regulated by the NRC and/or the Agreement states including medical, industrial, and fuel cycle materials users, and nuclear power reactor licensees, as well as the Nuclear Energy Institute (NEI), the Institute of Nuclear Power Operations (INPO), and members of the public. The workshop panelists reached alignment with input from the other meeting attendees on a common definition of safety culture and a high-level set of traits describing areas important to a positive safety culture.

Additional Outreach Activities

Following the February workshop, the staff evaluated the public comments that were submitted in response to the initial draft SOP. Additionally, the staff participated on panels and made presentations at various industry forums in order to provide information to stakeholders about the development of the safety culture policy statement and/or to obtain additional input and to ascertain whether the draft definition and traits developed at the workshop accurately reflect a broad range of stakeholders' views. These outreach activities included, for example, participation in a Special Joint Session on Safety Culture at the Health Physics Society Annual Meeting, and presentations on the development of the Safety Culture Policy Statement at the Annual Fuel Cycle Information Exchange, the Conference of Radiation Control Program Directors' Annual National Conference on Radiation Control, the Institute of Nuclear Materials Management's Annual Meeting, the 2nd NRC Workshop on Vendor Oversight for New Reactors, and the Organization of Agreement States Annual Meeting.

III. Statement of Policy

The purpose of this Statement of Policy is to set forth the Nuclear Regulatory Commission's expectation that individuals and organizations, performing or overseeing regulated activities involving nuclear materials, establish and maintain a positive safety culture commensurate with the safety and security significance of their activities and the nature and complexity of their organizations and functions. This applies to all licensees, certificate holders, permit holders, authorization holders, holders of quality assurance program approvals, vendors, suppliers of safety related components, and applicants for a license, certificate, permit, authorization, or quality assurance program approval, subject to NRC authority. Additionally, it is the Commission's expectation that the Agreement States and other organizations interested in nuclear safety will support the development and maintenance of a positive safety culture, as articulated in this Statement of Policy, within their regulated communities.

The Commission defines Nuclear Safety Culture as the core values and behaviors resulting from a collective commitment by leaders and individuals to emphasize safety over competing goals to ensure protection of people and the environment. The Commission considers nuclear safety and nuclear security issues to be equally important in a positive safety culture. Thus, as part of this collective commitment, organizations should ensure that personnel in the safety and security sectors have an appreciation for the importance of each, emphasizing the need for integration and balance to achieve optimized protection. Safety and security activities are closely intertwined, and it is critical that consideration of these activities be integrated so as not to diminish or adversely affect either. A safety culture that accomplishes this would include all nuclear safety and security issues associated with NRC-regulated activities.

Individuals and organizations performing or overseeing regulated activities involving nuclear materials bear the primary responsibility for safely handling and securing these materials. The Commission, as the regulatory agency, has an independent oversight role that reviews the performance of those individuals and organizations through its inspection and assessment processes, including their performance as it relates to areas important to safety culture.

Experience has shown that certain personal and organizational traits are present in a positive safety culture. A trait, in this case, is a pattern of thinking, feeling, and behaving that emphasizes safety, particularly in goal conflict situations, e.g., production vs. safety, schedule vs. safety, and cost of the effort vs. safety. It should be noted that although the term “security” is not expressly included in these traits, safety and security are the primary pillars of the NRC's regulatory mission. Consequently, consideration of both safety and security issues, commensurate with their significance, is an underlying principle of this Statement of Policy. The traits of a positive safety culture include, but are not limited to: (1) Leadership Safety Values and Actions in which leaders demonstrate a commitment to safety in their decisions and behaviors; (2) Problem Identification and Resolution in which issues potentially impacting safety are promptly identified, fully evaluated, and promptly addressed and corrected commensurate with their significance; (3) Personal Accountability in which all individuals take personal responsibility for safety; (4) Work Processes in which the process of planning and controlling work activities is implemented so that safety is maintained; (5) Continuous Learning in which opportunities to learn about ways to ensure safety are sought out and implemented; (6) Environment for Raising Concerns in which a safety conscious work environment is maintained where personnel feel free to raise safety concerns without fear of retaliation, intimidation, harassment or discrimination; (7) Effective Safety Communication in which communications maintain a focus on safety; and (8) a Respectful Work Environment in which trust and respect permeate the organization. It is the Commission's expectation that all individuals and organizations, performing or overseeing regulated activities involving nuclear materials should take the necessary steps to promote a positive safety culture by fostering these traits as they apply to their organizational environments.

IV. Changes to the Initial Draft Statement of Policy

Like the initial draft SOP, the revised draft SOP begins by indicating to whom the policy applies as a general matter. In the initial draft SOP, licensees and certificate holders are listed; however, earlier in the FRN, there is a footnote indicating that throughout the document, the phrase “licensees and certificate holders” includes licensees, certificate holders, permit holders, authorization holders, etc. The revised draft SOP refers to “individuals and organizations, performing or overseeing regulated activities involving nuclear materials,” which includes vendors and suppliers of safety-related components. Additionally, the revised draft SOP notes the Commission's expectation that the Agreement States and other organizations interested in the safe use of nuclear materials also develop and maintain a positive safety culture within their regulated communities as well.

The definition of safety culture in the initial draft SOP is based on the International Atomic Energy Agency (IAEA) definition of safety culture, modified to broaden its applicability to materials users and to include security. The definition of safety culture has been changed in the revised draft SOP to the definition that was developed during the February 2010 workshop. This definition is broad enough to apply to all individuals and organizations, performing or overseeing regulated activities involving nuclear materials. Additionally, the February 2010 workshop definition does not include the term “security.” The revised definition resonated with the workshop panelists. Additionally, it was the preferred definition in the comments received on the initial draft policy statement and the comments received during several industry forums held after the February 2010 workshop. The initial draft SOP, like the revised draft SOP, discusses the importance of providing personnel in both the safety and security sectors with an appreciation for the importance of each. Both SOPs also discuss the importance of recognizing how closely intertwined safety and security activities are and the importance of integrating these activities so as not to diminish or adversely affect either. The initial draft SOP indicates areas that should receive the greatest attention as a matter of priority. The revised draft SOP is silent on this point because each entity should examine its specific regulated activities to determine the areas that should receive the greatest attention.

Both SOPs stress the fact that those entities that use or provide services related to the use of radioactive materials bear the primary responsibility for safely handling and securing such materials; however, the revised draft SOP, as noted above, expands those entities to include individuals and organizations performing regulated activities to support the ability of the Agreement States to apply this SOP to their licensees. Both SOPs also point out that the NRC, as the regulatory agency, has an independent oversight role of those individuals and organizations through their inspection and assessment processes including their performance as it relates to areas important to safety culture.

Based on responses to a question posed in the FRN containing the initial draft SOP, the revised draft SOP contains the traits (i.e., descriptions of areas important to safety culture). The November 2009 FRN describes the traits in another section of the policy statement rather than in the actual Statement of Policy (SOP) section. The traits that are included in the revised draft SOP, while similar to those proposed by the NRC in the November 2009 FRN, are based on the traits developed by the February workshop panelists. Taking into consideration the public comments on the initial draft safety policy statement, the NRC staff revised the workshop traits to make them clearer but made no substantive changes. Additionally, the revised draft SOP contains a preamble to the traits explaining what is a trait, and a discussion of the use of the term “security” in the traits, noting that although not expressly included in the traits, consideration of both safety and security issues commensurate with their significance is an underlying principle of the SOP.

The initial draft SOP also refers to the scope of the Commission's responsibilities as well as how it carries out these responsibilities. This paragraph was removed from the revised draft SOP to avoid confusing the SOP with a regulation; rather, the SOP provides the Commission's expectations regarding the applicability of this statement to individuals and organizations, performing or overseeing regulated activities involving nuclear materials.

V. Evaluation of Public Comments

Sixty-six public comments were received on the initial draft policy statement published in the November 2009 FRN. Several of the comments were statements of agreement on the information and/or draft SOP that was published in the November 2009 FRN. Although the NRC staff used these comments to validate work the staff had already completed, these comments did not require further clarification. Of the remaining public comments, most fell into one of three themes: (1) More guidance is needed on implementation issues; (2) should the term “security” be included in the definition and, if not, should there be a separate security policy statement; and, (3) how will the NRC use a policy statement (which is voluntary) to enforce implementation of safety culture.

(1) Implementation Comments

Several of the comments requested clarification on the NRC's plans to implement the SOP. After the Commission has approved the policy statement, the Commission will issue an SRM to provide direction to the staff regarding next steps. The NRC offices that are responsible for overseeing regulated activities will assess their inspection and oversight programs to determine whether (and if so, how) to revise their programs based on the Commission's direction. The Commission is aware that there are many different settings in which the policy statement will be implemented and that implementation will be more complex in some settings than others. For example, as discussed above, the NRC's Reactor Oversight Program (ROP) already addresses safety culture in the inspection of nuclear power reactors. In addition, the power reactor community has ongoing programs and activities in place for assessing safety culture and implementing improvement strategies. This may not be the case with other categories of regulated activities, such as industrial radiography and medical use of isotopes. Variants such as these will be factored into the agency's approach and schedule for implementing the policy statement.

(2) Security Comments

As noted above, the panelists at the February workshop aligned on a common definition of safety culture. That definition, however, differs from the draft definition proposed in the November 2009 FRN which defines safety culture as “that assembly of characteristics, attitudes, and behaviors in organizations and individuals which establishes that as an overriding priority, nuclear safety and security issues receive the attention warranted by their significance.” The initial draft definition includes the terms “safety” and “security,” underscoring the significance the Commission places on consideration of both within NRC's regulatory framework. In subsequent internal discussions and during the various outreach activities with stakeholders, the February workshop definition, which does not include the term “security”, has been well received and thus, has been adopted in the revised draft SOP. The workshop definition is as follows: “Nuclear safety culture is the core values and behaviors resulting from a collective commitment by leaders and individuals to emphasize safety over competing goals to ensure protection of people and the environment.” Deletion of the term “security” was deliberate. The panelists believe that leaving it in the definition would cause unnecessary confusion, particularly for smaller regulated entities that do not have to consider the same security issues as a nuclear power plant or fuel processing facility, for example. Their position is that security, like radiation protection, safeguards, material control and accounting, physical protection, and emergency preparedness, falls under an overarching definition of safety and should not be singled out. These views on removing the term “security” from the definition were also expressed by several members of a stakeholder panel during the Safety Culture Commission Briefing on March 30, 2010 (ML100950527).

Likewise, the traits that are included in the revised draft SOP, while similar to those proposed by the NRC, do not include the term “security” wherever the term “safety” is used. In recognition of the importance the agency places on security in a post “9/11” environment, the staff developed a preamble to the traits which points out that while the term “security” is not expressly included in each of the traits, safety and security are the primary pillars of the NRC's regulatory mission.

Finally, unlike the initial draft safety culture policy statement, the revised traits are included in the revised draft SOP itself. The November 2009 FRN specifically asked whether commenters would prefer this approach. There was almost unanimous agreement that the traits should be included to clarify the SOP.

(3) Policy Statement vs. Regulation/Rule Comments

Because public comments reflected some misunderstanding regarding the Commission's use of a policy statement rather than a regulation or rule, the following clarification is offered: The Commission may use a policy statement to address matters relating to activities that are within NRC jurisdiction and are of particular interest and importance to the Commission. Policy statements help to guide the activities of the NRC staff and can express the Commission's expectations. The NRC's Enforcement Policy, for example, describes the policy and procedures the agency intends to follow in initiating and reviewing enforcement actions in response to violations of NRC requirements.

Policy statements are not regulations/rules and are not accorded the status of a regulation/rule within the meaning of the Administrative Procedure Act (Pub. L. 79-404), the primary goal of which is to ensure that agencies observe procedural due process (i.e., fairness), in conducting their regulatory and administrative affairs. For example, Agreement States that are responsible for overseeing materials licensees are not required to implement the elements of a policy statement because such statements, unlike NRC regulations, are not a matter of compatibility. Additionally, policy statements cannot be considered binding upon, or enforceable against, NRC or Agreement State licensees and certificate holders.

While the option to consider rulemaking exists, the NRC believes that, at this time, developing a policy statement is a more effective way to engage stakeholders.

Additional Recommendations Based on Public Comments

Based on its evaluation of the public comments, the NRC staff made several additional recommendations. These recommendations have been included in the revised draft SOP or are addressed elsewhere in this FRN.

• In SRM-SECY-09-0075, the Commission directed the staff to consider incorporating vendors and suppliers of safety related components in the safety culture policy statement. Although there is strong support for doing so, some stakeholders have raised implementation issues. While implementation issues (particularly in cases where such vendors and suppliers are outside of NRC jurisdiction) may be complicated, most comments indicated that vendors and suppliers of safety-related components should be developing and maintaining a positive safety culture in their organizations for the same reasons that NRC licensees and certificate holders should be doing so. Thus, the revised draft SOP indicates that it is applicable to vendors and suppliers of safety-related components.

• Because of the emphasis that the public comments place on strong leadership, the NRC staff recommended moving the trait “Leadership Safety Values and Actions” to the top of the traits list to give it visual prominence.

• Several comments indicated that there should be a discussion of complacency in the SOP. Complacency can occur because of long term success and repetition. Although this is already indirectly addressed in the traits (e.g., Effective Safety Communication and Personal Accountability are traits that prevent complacency), the NRC staff recommended further discussion of complacency in the revised draft SOP. The NRC is asking for comments as to whether it is useful to add a discussion on this aspect of safety culture to the SOP.

VI. Questions for Which NRC Is Seeking Input

(1) The revised definition of Nuclear Safety Culture is: “Nuclear Safety Culture is the core values and behaviors resulting from a collective commitment by leaders and individuals to emphasize safety over competing goals to ensure protection of people and the environment.” Should this be retained, as currently written, or should it be revised?

(2) Does including the safety culture traits in the SOP itself clarify your understanding of what the Commission means by a positive safety culture? If not, what additional guidance do you think is needed?

(3) Does the revised draft SOP provide a clear statement of the NRC's expectations that the regulated community should maintain a safety culture that includes balanced consideration of safety and security? If not, what changes or additions should be made?

(4) Should a discussion regarding complacency be added to the SOP and/or to the traits that describe areas important to safety?

(5) In late August 2010, the Institute of Nuclear Power Operations (INPO) completed a validation study to assess the extent to which the factors that emerged from analyzing responses to a safety culture survey match the traits that were identified during the February 2010 workshop. Only individuals working at nuclear reactors participated in the survey.

The study provides general support for the traits developed at the workshop; however, the study provides a slightly different grouping. Under the validation study, there are nine traits: (1) Management Responsibility/Commitment to Safety; (2) Willingness to Raise Concerns; (3) Decision-making; (4) Supervisor Responsibility for Safety; (5) Questioning Attitude; (6) Safety Communication; (7) Personal Responsibility for Safety; (8) Prioritizing Safety; and (9) Training Quality. Four of these are consistent with the eight traits developed by the workshop participants, i.e., Management Responsibility is consistent with Leadership Safety Values and Actions; Willingness to Raise Concerns relates to Environment for Raising Concerns; Safety Communication relates to Effective Safety Communication; and Personal Responsibility for Safety is consistent with Personal Accountability. The remaining five traits identified in the study, i.e., Decision-making, Supervisor Responsibility for Safety, Questioning Attitude, Prioritizing Safety, and Training Quality, are not as closely related (although they are not completely dissimilar). This is new information. The NRC is seeking stakeholder comments on this information though the FRN and through the public meeting scheduled for September 28 in Las Vegas.

To ensure efficient consideration of your comments, if you are responding to a specific question, please identify it by number with your comment. When commenting, please exercise caution with regard to site-specific security-related information. Comments will be made available to the public in their entirety. Personal information such as your name, address, telephone number, and e-mail address will not be removed from your submission.

For the Nuclear Regulatory Commission.
Dated at Rockville, Maryland, this 10th day of Sept, 2010.
Roy P. Zimmerman,
Director, Office of Enforcement.

[FR Doc. 2010-23249 Filed 9-16-10; 8:45 am]

BILLING CODE 7590-01-P